DEPARTMENT OF COMMERCE

National Oceanic and Atmospheric Administration

50 CFR Part 680

[Docket No. I.D. 021606B]

RIN 0648-AU06

Fisheries of the Exclusive Economic Zone Off Alaska; Allocating Bering Sea And Aleutian Islands King and Tanner Crab Fishery Resources

AGENCY: National Marine Fisheries Service (NMFS), National Oceanic and Atmospheric Administration (NOAA), Commerce.

ACTION: Notice of availability of fishery management plan amendment; request for comments.

SUMMARY: Congress amended the Magnuson-Stevens Fishery Conservation and Management Act (Magnuson-Stevens Act) to require the Secretary of Commerce (Secretary) to approve the Bering Sea/Aleutian Islands (BSAI) Crab Rationalization Program (Program). The Program allocates BSAI crab resources among harvesters, processors, and coastal communities. The Program was implemented by Amendments 18 and 19 to the Fishery Management Plan for BSAI King and Tanner Crabs (FMP). Amendment 20 would modify the FMP and the Program to increase resource conservation and improve economic efficiency in the Chionoecetes bairdi crab (Tanner crab) fisheries that are subject to the Program. This action is intended to promote the goals and objectives of the Magnuson-Stevens Act, the FMP, and other applicable laws.

DATES: Comments on the amendment must be submitted on or before April 28, 2006.

ADDRESSES: Send comments to Sue Salveson, Assistant Regional Administrator, Sustainable Fisheries Division, Alaska Region, NMFS, Attn: Records Office. Comments may be submitted by:

• Mail: P.O. Box 21668, Juneau, AK 99802.

• Hand Delivery to the Federal Building: 709 West 9th Street, Room 420A, Juneau, AK.

• Facsimile: 907-586-7557.

• E-mail: 0648-AU06-KTC20-NOA@noaa.gov. Include in the subject line of the e-mail the following document identifier: Crab Rationalization RIN 0648-AU06. E-mail comments, with or without attachments, are limited to 5 megabytes.

• Webform at the Federal eRulemaking Portal: http://www.regulations.gov. Follow the instructions at that site for submitting comments.

Copies of Amendment 20 and the Environmental Assessment/Regulatory Impact Review/Initial Regulatory Flexibility Analysis (EA/RIR/IRFA) for this action may be obtained from the NMFS Alaska Region at the address above or from the Alaska Region Web site at http://www.fakr.noaa.gov/sustainablefisheries.htm.

FOR FURTHER INFORMATION CONTACT: Glenn Merrill, 907-586-7228 or glenn.merrill@noaa.gov.

SUPPLEMENTARY INFORMATION: The Magnuson-Stevens Act requires that each regional fishery management council submit any fishery management plan amendment it prepares to NMFS for review and approval, disapproval, or partial approval by the Secretary. The Magnuson-Stevens Act also requires that NMFS, upon receiving a fishery management plan amendment, immediately publish a notice in the Federal Register announcing that the amendment is available for public review and comment.

The king and Tanner crab fisheries in the exclusive economic zone of the BSAI are managed under the FMP. The FMP was prepared by the North Pacific Fishery Management Council (Council) under the Magnuson-Stevens Act as amended by the Consolidated Appropriations Act of 2004 (Pub. L. 108-199, section 801). Amendments 18 and 19 to the FMP amended the FMP to include the Program. A final rule implementing these amendments was published on March 2, 2005 (70 FR 10174). NMFS also published three corrections to the final rule (70 FR 13097; March 18, 2005), (70 FR 33390; June 8, 2005), and (70 FR 75419; December 20, 2005).

The Council submitted Amendment 20 to the FMP for Secretarial review, which would make minor changes to the FMP necessary for the management of the Tanner crab fisheries under the Program. If approved, Amendment 20 to the FMP would modify the allocation of harvesting shares and processing shares for Bering Sea Tanner crab. Under authority deferred to the State of Alaska (State) by the FMP, the State has determined that the Bering Sea District Tanner crabs are in two geographically separate stocks, and should be managed as two separate stocks; one east of 166° W longitude, the other west of 166° W longitude. Currently, under the Program, harvester quota share (QS), processor quota share (PQS), individual fishing quota (IFQ), and individual processing quota (IPQ) are issued for one Tanner crab fishery. Amendment 20 would modify the FMP to allocate QS and PQS and the resulting IFQ and IPQ for two Tanner crab fisheries one east of 166° W longitude, the other west of 166° W longitude.

The current allocations are not consistent with management of the species as two stocks. Revision of the QS and PQS allocations would resolve this inconsistency, reduce administrative costs for managers and reduce potential operational costs and increase flexibility for harvesters and processors.

Public comments are being solicited on proposed Amendment 20 through the end of the comment period (see DATES). NMFS intends to publish a proposed rule that would implement Amendment 20 in the Federal Register for public comment, following NMFS' evaluation under the Magnuson-Stevens Act procedures. Public comments on the proposed rule must be received by the end of the comment period on Amendment 20 to be considered in the approval/disapproval decision on Amendment 20. All comments received by the end of the comment period on Amendment 20, whether specifically directed to the FMP amendment or the proposed rule, will be considered in the approval/disapproval decision. Comments received after that date will not be considered in the approval/disapproval decision on the amendments. To be considered, comments must be received not just postmarked or otherwise transmitted by the close of business on the last day of the comment period.

Dated: February 22, 2006.
William D. Chappell,
Acting Director, Office of Sustainable Fisheries, National Marine Fisheries Service.

[FR Doc. E6-2733 Filed 2-24-06; 8:45 am]

BILLING CODE 3510-22-S